Proclamation 7937 of September 30, 2005

National Disability Employment Awareness Month, 2005

By the President of the United States of America

A Proclamation

Across America, individuals with disabilities are making important contributions in the workplace. This month, we celebrate their accomplishments and reaffirm our commitment to ensuring that the opportunities of America are available and accessible to every citizen.

Fifteen years ago, President George H. W. Bush signed into law the Americans with Disabilities Act of 1990 (ADA), reducing barriers for millions of Americans with disabilities and providing a mandate for the elimination of discrimination in the workplace and in the community. Since the ADA was enacted, people with disabilities have been able to participate more fully in the workforce, and our Nation has become stronger and more just. Yet more work remains, and we continue our efforts to enable Americans with disabilities to live and work with greater freedom.

In the spirit of the ADA, my Administration's New Freedom Initiative has expanded access to assistive technologies, education, and opportunities for people with disabilities to integrate into the workforce. I signed into law legislation that improves the Individuals with Disabilities Education Act to ensure that our young people with disabilities are prepared for the many opportunities ahead. Through these and other efforts, we are working to ensure that Americans with disabilities can realize the promise of America.

To recognize the contributions of Americans with disabilities and to encourage all citizens to ensure equal opportunity in the workforce, the Congress, by joint resolution approved as amended (36 U.S.C. 121), has designated October of each year as “National Disability Employment Awareness Month.”

NOW, THEREFORE, I, GEORGE W. BUSH, President of the United States of America, do hereby proclaim October 2005 as National Disability Employment Awareness Month. I call upon Government officials, labor leaders, employers, and the people of the United States to observe this month with appropriate programs, ceremonies, and activities.

IN WITNESS WHEREOF, I have hereunto set my hand this thirtieth day of September, in the year of our Lord two thousand five, and of the Independence of the United States of America the two hundred and thirtieth.

B

[FR Doc. 05-20153

Filed 10-4-05; 9:56 am]

Billing code 3195-01-P